SECURITIES AND EXCHANGE COMMISSION

[File No. 500-1]

Order of Suspension of Trading; In the Matter of Business Marketing Services, Inc., Diversified Corporate Resources, Inc., Great Lakes Recreation Co., Green Nature USA, Inc., Green St. Energy, Inc., International Total Services, Inc., J.P. Cabot Realty, Inc., Multicom Publishing, Pan American Resources, Inc., Printron, Inc., Seaboard Associates, Inc., Sona Mobile Holdings Group, Ltd., Standard Holdings Group, Ltd., TraceGuard Technologies, Inc., Tradings.net, Inc., US-Worldlink.com, Inc., Versadial, Inc., Voxcorp, Inc., and W3OTC, Inc.

April 11, 2016.

It appears to the Securities and Exchange Commission that there is a lack of current and accurate information concerning the securities of each of the issuers detailed below because questions have arisen as to their operating status, if any. Each of the issuers below is quoted on OTC Link operated by OTC Markets Group, Inc. OTC Markets Group, Inc., however, has been unable to contact each of these issuers for more than one year. In addition, the staff of the Securities and Exchange Commission has independently endeavored to determine whether any of the issuers below are operating. Each of the issuers below either confirmed that they were no longer operating or were now private companies, failed to respond to the Commission's inquiry about their operating status, did not have an operational address, or failed to provide their registered agent with an operational address. The staff of the Securities and Exchange Commission also determined that none of the issuers below has filed any information with OTC Markets Group, Inc. or the Securities and Exchange Commission for the past year.

Issuer | Ticker | Information regarding operating status *
1. Business Marketing Services, Inc | BMSV | 1
2. Diversified Corporate Resources, Inc | HIRD | 1
3. Great Lakes Recreation Co | GLRC | 1
4. Green Nature USA, Inc | GRTU | 1
5. Green St. Energy, Inc | GSTY | 1
6. International Total Services, Inc | ITSW | 2
7. J.P. Cabot Realty, Inc | JPCB | 1
8. Multicom Publishing | MNET | 1
9. Pan American Resources, Inc | PNAR | 1
10. Printron, Inc | PRNI | 1
11. Seaboard Associates, Inc | SAOA | 1
12. Sona Mobile Holdings Group, Ltd | SNMBQ | 1
13. Standard Holdings Group, Ltd | SNDH | 2
14. TraceGuard Technologies, Inc | TCGD | 1
15. Tradings.net, Inc | TDNC | 1
16. US-Worldlink.com, Inc | USWL | 1
17. Versadial, Inc | VSDL | 1
18. Voxcorp, Inc | VOXR | 1
19. W3OTC, Inc | WOTC | 1
* Below are explanations for each of the codes used in the above table:
1=The Securities and Exchange Commission attempted to contact the issuer and either the Commission did not receive a response to its letter, the letters were returned as undeliverable, or the registered agent responded that they had no forwarding address for the issuer.
2=The Securities and Exchange Commission was able to contact the issuer, which informed the Commission that either the issuer was no longer operating or was now a private company.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 11, 2016, through 11:59 p.m. EDT on April 22, 2016.

By the Commission.
Jill M. Peterson,
Assistant Secretary.

[FR Doc. 2016-08611 Filed 4-11-16; 4:15 pm]

BILLING CODE 8011-01-P